DEPARTMENT OF STATE

[Public Notice: 12574]

Determination Under Section 7012 of the Department of State, Foreign Operations, and Related Programs Appropriations Act, 2024 Relating to Assistance to Yemen

Pursuant to the authority vested in me by section 7012 of the Department of State, Foreign Operations, and Related Programs Appropriations Act, 2024 (Div. F, Pub. L. 118-47) (FY 2024 SFOAA), Executive Order 12163, as amended by Executive Order 13346, and Department of State Delegation of Authority 513, I hereby determine that assistance for Yemen is in the national interest of the United States and thereby waive the application of section 7012 of the FY 2024 SFOAA with respect to such assistance to Yemen.

This determination shall be published in the Federal Register and, along with the accompanying Memorandum of Justification, shall be reported to Congress.

Dated: April 30, 2024.
Richard R. Verma,
Deputy Secretary of State for Management and Resources, Department of State.

Editorial Note: This document was received for publication by the Office of the Federal Register on October 31, 2024.

[FR Doc. 2024-25685 Filed 11-4-24; 8:45 am]

BILLING CODE 4710-31-P